ENVIRONMENTAL PROTECTION AGENCY

[EPA-HQ-OPP-2023-0067; FRL-10578-05-OCSPP]

Pesticide Product Registration; Receipt of Applications for New Uses May 2023

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before July 26, 2023.

ADDRESSES: Submit your comments, identified by docket identification (ID) number EPA-HQ-OPP-2023-0067, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

A. Notice of Receipt—New Uses

1. EPA Registration Number: 279-3637, 279-3638, 279-3639, 279-3640, 279-3641, 279-3642, 279-3643. Docket ID number: EPA-HQ-OPP-2023-0062. Applicant: FMC Corporation, 2929 Walnut Street, Philadelphia, PA 19104. Active ingredient: Fluindapyr. Product type: Fungicide. Proposed use: Soybean, sod farms, and turf and ornamentals in residential areas. Contact: RD.

2. EPA Registration Numbers: 279-9586, 279-9597, 279-9598, 279-9629, 279-9596. Docket ID number: EPA-HQ-OPP-2023-0079. Applicant: The IR-4 Project, NC State University, Campus Box 7710, Raleigh, NC 27695. Active ingredient: Indoxacarb. Product type: Insecticide. Proposed use: New uses on coffee; strawberry; sunflower subgroup 20B; crop group expansions to cottonseed subgroup 20C; edible podded bean subgroup 6-22A; field corn subgroup 15-22C; pulses, dried shelled bean, except soybean, subgroup 6-22E; succulent shelled bean subgroup 6-22C; sweet corn subgroup 15-22D; crop group conversions to brassica, leafy greens subgroup 4-16B; fruit, pome, group 11-10 except pear; fruit, stone, group 12-12; leaf petiole vegetable subgroup 22B; leafy greens subgroup 4-16A; pear, Asian; vegetable, brassica, head and stem group 5-16; and vegetable fruiting, group 8-10 including tolerances for the orphan crops celtuce; chickpea, dry seed; fennel, Florence, fresh leaves and stalk; and kohlrabi. Contact: RD.

3. EPA Registration Number: 7969-402 and 7969-405. Docket ID number: EPA-HQ-OPP-2023-0238. Applicant: BASF Corporation, 26 Davis Drive, Research Triangle Park, NC 27709. Active ingredient: Mefentrifluconazole. Product type: Fungicide. Proposed use: Seed treatment on legume vegetable group (crop group 6-22). Contact: RD.

Authority: 7 U.S.C. 136 et seq.

Dated: June 14, 2023.
Delores Barber,
Director, Information Technology and Resources Management Division, Office of Program Support.

[FR Doc. 2023-13482 Filed 6-23-23; 8:45 am]

BILLING CODE 6560-50-P